DEPARTMENT OF COMMERCE

International Trade Administration

[A-570-601]

Tapered Roller Bearings and Parts Thereof, Finished and Unfinished, from the People's Republic of China: Amended Final Results of Administrative Review

AGENCY: Import Administration, International Trade Administration, Department of Commerce.

SUMMARY: On January 17, 2006, the Department of Commerce (the “Department”) published Tapered Roller Bearings and Parts Thereof, Finished and Unfinished, from the People's Republic of China: Final Results of 2003-2004 Administrative Review and Partial Rescission of Review, 71 FR 2517 (January 17, 2006) (“Final Results”), covering the period of review (“POR”) June 1, 2003, through May 31, 2004. We are amending the Final Results to correct ministerial errors made in the calculation of the dumping margins for Luoyang Bearing Corporation (Group) (“LYC”), pursuant to section 751(h) of the Tariff Act of 1930, as amended (“the Act”).

EFFECTIVE DATE: February 24, 2006.

FOR FURTHER INFORMATION CONTACT: Laurel LaCivita, Eugene Degnan or Robert Bolling, AD/CVD Operations, Office 8, Import Administration, International Trade Administration, U.S. Department of Commerce, 14th Street and Constitution Avenue NW, Washington, DC 20230; telephone: (202) 482-4243, (202) 482-0414 or (202) 482-3434, respectively.

SUPPLEMENTARY INFORMATION:

Scope of Order

Merchandise covered by this order is tapered roller bearings (“TRBs”) from the People's Republic of China (“PRC”); flange, take up cartridge, and hanger units incorporating tapered roller bearings; and tapered roller housings (except pillow blocks) incorporating tapered rollers, with or without spindles, whether or not for automotive use. This merchandise is currently classifiable under the Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order is dispositive.

Background

On January 17, 2006, the Department published the Final Results in the Federal Register. On January 17, 2006, and January 18, 2006, we received ministerial error allegations from Yantai Timken Co., Ltd. (“Yantai Timken”) and The Timken Company (Petitioner), respectively. A ministerial error is defined in section 751(h) of the Act and further clarified in 19 CFR 351.224(f) as “an error in addition, subtraction, or other arithmetic function, ministerial error resulting from inaccurate copying, duplication, or the like, and any other similar type of unintentional error which the Secretary considers ministerial.” After analyzing the comments by interested parties, we have determined, in accordance with 19 CFR 351.224(e), that a ministerial error existed in the calculations for the Final Results with respect to LYC. Additionally, we disagree that the issue raised by Yantai Timken constitutes a ministerial error. For a detailed explanation of this issue, see the memorandum to the file from Laurel LaCivita, Senior Case Analyst, through Robert Bolling, Program Manager, “Analysis for the Amended Final Results of the 2003-2004 Administrative Review of Tapered Roller Bearings and Parts Thereof, Finished or Unfinished, from the People's Republic of China: Yantai Company, Ltd,” dated February 16, 2006. For a detailed discussion and analysis of the ministerial error raised by Petitioner with respect to LYC and the correction the Department has applied, see the memorandum to the file from Eugene Degnan, Case Analyst, through Robert Bolling, Program Manager, “Analysis for the Amended Final Results of the 2003-2004 Administrative Review of Tapered Roller Bearings and Parts Thereof, Finished or Unfinished, from the People's Republic of China: Luoyang Bearing Corporation (Group),” dated February 16, 2006. Both memoranda are on file in the Central Records Unit, room B-099 in the main building of the Department of Commerce.

Therefore, in accordance with section 751(h) of the Act and 19 CFR 351.224(e), we are amending the Final Results of the administrative review of TRBs from the PRC for LYC.

In addition, our Final Results inadvertently failed to include the Department's determination with respect to three companies: Shanghai United Bearing Co., Ltd. (“Shanghai United”), Zhejiang Changshan Bearing (Group) Co., Ltd. (“Changshan Bearing”), and Zhejiang Changshan Change Bearing Co. (“ZCCBC”). In our preliminary results of review, we determined that Shanghai United, Changshan Bearing, and ZCCBC had failed to demonstrate their eligibility for separate rate status. Therefore, we preliminarily determined that they were part of the PRC-wide entity. See Tapered Roller Bearings and Parts Thereof, Finished or Unfinished, from the People's Republic of China: Preliminary Results of Antidumping Duty Administrative Review and Notice of Intent to Rescind in Part, 70 FR 39744, 39751 (July 11, 2005) (“Preliminary Results”). Because the PRC-wide entity failed to cooperate in this review, we preliminarily determined that the application of total adverse facts available (“AFA”) was warranted and applied the rate of 60.95 percent to the PRC-wide entity. See 70 FR 39744, at 39751 and 39755. Since the Preliminary Results, no information has been placed on the record with respect to these companies. Therefore, we have not reconsidered our decision from the Preliminary Results. Consequently, for the amended final results of review, we shall continue to apply a total AFA rate of 60.95 percent to the PRC-wide entity (including Shanghai United, Changshan Bearing, and ZCCBC).

The revised weighted-average dumping margin for LYC is detailed in the chart below.

Manufacturer/Exporter | Weighted-Average Margin (Percent)
LYC | 0.44*
* This rate is de minimis.

The Department shall determine, and U.S. Customs and Border Protection shall assess, antidumping duties on all appropriate entries based on the amended final results. For details on the assessment of antidumping duties on all appropriate entries, see Final Results, 71 FR 2517, 2523.

These amended final results are published in accordance with sections 751(h) and 777(i)(1) of the Act.

Dated: February 16, 2006.
Joseph A. Spetrini,
Acting Assistant Secretary for Import Administration.

[FR Doc. E6-2674 Filed 2-23-06; 8:45 am]

BILLING CODE 3510-DS-S